DEPARTMENT OF COMMERCE

National Oceanic and Atmospheric Administration

Proposed Information Collection; Comment Request; Regional Economic Data Collection Program for Southwest Alaska

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 13, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Chang Seung, (206) 526-4250 or Chang.Seung@noaa.gov.

SUPPLEMENTARY INFORMATION:

I. Abstract

The regional or community economic analysis of proposed fishery management policies is required by the Magnuson-Stevens Fishery Conservation and Management Act (MSA), National Environmental Policy Act (NEPA), and Executive Order 12866, among others. To satisfy these mandates and inform policymakers and the public of the likely regional economic impacts associated with fishery management policies, appropriate economic models and the data to implement these models are needed.

Much of the data required for regional economic analysis associated with Southwest Alaska fisheries are either unavailable or unreliable. Accurate fishery-level data on employment, labor income, and expenditures in the Southwest Alaska fishery and related industries are not currently available but are needed to estimate the effects of fisheries on the economy of Southwest Alaska. In this survey effort, data on these important regional economic variables will be collected and used to develop models that will provide more reliable estimates and significantly improve policymakers' ability to assess policy effects on fishery-dependent communities in Southwest Alaska. The survey will be for one-time only.

The survey (mailed) will be used to request data on employment and labor income from 2,200 vessel owners whose boats delivered fish to Southwest Alaska processors. In-person interviews and telephone calls (120) with businesses involved in the fishery and related industries will be used to obtain (a) Vessel expenditure/cost data; (b) regional economic data for non-fishery industries; and (c) regional economic data for fish processing sector.

II. Method of Collection

Mail surveys will be used.

III. Data

OMB Number: None.

Form Number: None.

Type of Review: Regular submission.

Affected Public: Business or other for-profit organizations.

Estimated Number of Respondents: 2,320.

Estimated Time Per Response: Mail survey: 10 minutes; phone call or local interview with fish processors: 30 minutes; phone calls with local small businesses: 10 minutes.

Estimated Total Annual Burden Hours: 393.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 5, 2006.
Gwellnar Banks,
Management Analyst, Office of the Chief Information Officer.

[FR Doc. E6-15034 Filed 9-11-06; 8:45 am]

BILLING CODE 3510-22-P